DEPARTMENT OF TRANSPORTATION

Pipeline And Hazardous Materials Safety Administration

Office Of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 24, 2010.

Address Comments to: Record Center, Pipeline and Hazardous Materials Safety Administration, U.S. Department of Transportation, Washington, DC 20590

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC, or at http://regulations.gov.

This notice of receipt of applications for special permit is published in accordance with Part 107 of the Federal hazardous materials transportation law (49 U.S.C. 5117(b); 49 CFR 1.53(b)).

Issued in Washington, DC, on August 19, 2010.
Donald Burger,
Chief Special Permits and Approvals Branch.

New Special Permits
Application No. | Docket No. | Applicant | Regulation(s) affected | Nature of special permits thereof
15088-N |  | Burlington Containers Brooklyn, NY | 49 CFR 173.226 173.227 | To authorize the transportation in commerce of certain materials toxic by inhalation, Hazard Zone A and B, in alternative packaging by motor vehicle (mode 1).
15092-N |  | Tatonduk Outfitters Limited dbaEverts Air Alaska Fairbanks, AK | 49 CFR 173.302(f)(3) and (f)(4) and 173.304(f)(3) and (f)(4) | To authorize the transportation in commerce of cylinders containing oxidizing gases without a rigid outer packaging capable of passing the Flame Penetration and Resistance Test and the Thermal Resistance Test when no other practical means of transportation exist (modes 4, 5).
15094-N |  | Tucker Aviation Inc. Dillingham, AK | 49 CFR 173.302(f)(3) and (f)(4) and 173.304(f)(3) and (f)(4) | To authorize the transportation in commerce of cylinders containing oxidizing gases without a rigid outer packaging capable of passing the Flame Penetration and Resistance Test and the Thermal Resistance Test when no other practical means of transportation exist (modes 4, 5).
15095-N |  | Wright Air Service, Inc. Fairbanks, AK | 49 CFR 173.302(f)(3) and (f)(4) and 173.304(f)(3) and (f)(4) | To authorize the transportation in commerce of cylinders containing oxidizing gases without a rigid outer packaging capable of passing the Flame Penetration and Resistance Test and the Thermal Resistance Test when no other practical means of transportation exist (modes 4, 5).
15096-N |  | NK CO., LTD Saha-Gu, Busan | 49 CFR 180.209(a), 180.205(c)(f)(g) and (i) and 173.302a(b)(2), (3), (4) and (5) | To authorize the transportation in commerce of certain DOT 3A, AAA, 3AX, 3AAX and 3T cylinders that have been retested every ten (10) years instead of every five (5) years by acoustic emission and ultrasonic examination (AE/IJE) in place of the internal visual inspection and the hydrostatic retest required by § 180.205 (modes 1, 2, 3, 4, 5).

[FR Doc. 2010-21017 Filed 8-24-10; 8:45 am]

BILLING CODE 4909-60-M